ENVIRONMENTAL PROTECTION AGENCY

40 CFR Parts 80, 85, and 86

[EPA-HQ-OAR-2010-0052; FRL-9113-8]

RIN 2060-AI23; 2060-AQ12

Tier 2 Light-Duty Vehicle and Light-Duty Truck Emission Standards and Gasoline Sulfur Control Requirements (Section 610 Review)

AGENCY: Environmental Protection Agency (EPA).

ACTION: Request for comments on Regulatory Flexibility Act Section 610 Review.

SUMMARY: On February 10, 2000 (65 FR 6698), EPA published emission standards for light-duty vehicles and light-duty trucks requiring vehicle manufacturers to reduce tailpipe emissions. Specifically, EPA sought to reduce emissions of nitrogen oxides and non-methane hydrocarbons, pollutants which contribute to ozone pollution. The rulemaking also required oil refiners to limit the sulfur content of the gasoline they produce. Sulfur in gasoline has a detrimental impact on catalyst performance and the sulfur requirements have enabled the introduction of advanced technology emission control systems on motor vehicles.

Pursuant to Section 610 of the Regulatory Flexibility Act, EPA is now initiating a review of this rule to determine if the provisions related to small entities should be continued without change, or should be rescinded or amended to minimize adverse economic impacts on small entities.

DATES: Comments must be received on or before March 22, 2010.

ADDRESSES: Submit your comments, identified by Docket ID No. EPA-HQ-OAR-2010-0052, by one of the following methods:

• www.regulations.gov: Follow the on-line instructions for submitting comments.

• E-mail: a-and-r-Docket@epa.gov.

• Fax: 202-566-9744.

• Mail: Docket No. EPA-HQ-OAR-2010-0052, Environmental Protection Agency, Mail code 2822T, 1200 Pennsylvania Ave., NW., Washington, DC 20460.

• Hand Delivery: Docket No. EPA-HQ-OAR-2010-0052, Environmental Protection Agency, EPA West, Room 3334, 1301 Constitution Ave., NW., Washington, DC 20004. Such deliveries are only accepted during the Docket's normal hours of operation, and special arrangements should be made for deliveries of boxed information.

Instructions: Direct your comments to Docket ID No. EPA-HQ-OAR-2010-0052. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744 and the telephone number for the Air and Radiation Docket and Information Center is (202) 566-1742.

FOR FURTHER INFORMATION CONTACT: Tad Wysor, Office of Transportation and Air Quality, Assessment and Standards Division, Environmental Protection Agency, 2000 Traverwood Drive, Ann Arbor, MI 48105; telephone number: (734) 214-4332; fax number (734) 214-4816; e-mail address: wysor.tad@epa.gov, or Assessment and Standards Division Hotline; telephone number (734) 214-4636; e-mail address asdinfo@epa.gov.

SUPPLEMENTARY INFORMATION: The Agency published the Tier 2 Motor Vehicle Emissions Standards and Gasoline Sulfur Control Requirements rule (Tier 2 Program) on February 10, 2000 (65 FR 6698). The program significantly reduced emissions related to ozone and particulate matter from new passenger cars and light trucks, including pickup trucks, vans, minivans, and sport-utility vehicles. The program also required refiners to significantly reduce the level of sulfur in their gasoline.

The Tier 2 program required vehicle manufacturers to reduce new vehicle emissions, primarily nitrogen oxide, volatile organic compounds, and particulate matter. Included as `manufacturers' were several companies that convert gasoline vehicles to operate on alternative fuel, and several that import vehicles into the U.S. and upgrade their emission control systems to EPA specifications. Most of these companies are small entities, and a SBREFA panel recommended that EPA provide special flexibility to these types of vehicle manufacturers. In the final rule, EPA adopted these recommendations, including providing more time before the companies' vehicles were required to meet the emission standards otherwise applicable to larger manufacturers.

The Tier 2 program also required oil refiners to produce gasoline with much-reduced content of sulfur, primarily to protect the improved catalyst systems anticipated on new Tier 2 vehicles. An informal coalition of small refining companies formed to participate in the rulemaking and the SBREFA panel. In this case as well, EPA adopted recommendations of the small refiners, providing more lead time for meeting the gasoline sulfur requirements.

This notice announces that EPA will review the provisions of this regulation related to small entities pursuant to section 610 of the Regulatory Flexibility Act (RFA) (5 U.S.C. 610). EPA solicits comments on the following factors: (1) The continued need for the rule; (2) the Nature of complaints or comments received concerning the rule; (3) the complexity of the rule; (4) the extent to which the rule overlaps, duplicates, or conflicts with other Federal, State, or local government rules; and (5) the degree to which technology, economic conditions, or other factors have changed in the area affected by the rule.

Comments must be received by March 22, 2010. In submitting comments, please reference Docket ID number EPA-HQ-OAR-2010-0052, and follow the instructions provided in the Addresses section of this notice. The results of EPA's review will be summarized in a report and placed in the rulemaking docket referenced above. This docket can be accessed at http://www.regulations.gov.

Dated: February 12, 2010.
Alexander Cristofaro,
Director, Office of Regulatory Policy and Management.

[FR Doc. 2010-3249 Filed 2-18-10; 8:45 am]

BILLING CODE 6560-50-P